SECURITIES AND EXCHANGE COMMISSION

Sunshine Act Meetings

TIME AND DATE: Notice is hereby given, pursuant to the provisions of the Government in the Sunshine Act, Public Law 94-409, that the Securities and Exchange Commission will hold the SEC-NASAA-Georgia Secretary of State Joint Investor Roundtables on Wednesday and Thursday, March 27, and 28, 2024. The events will begin at 10 a.m. (ET) and will be open to the public.

PLACE: The meeting will be conducted in-person at: Wednesday, March 27, 2024, University of North Georgia, Mike Cottrell College of Business, 265 S Chestatee St., Dahlonega, GA 30597, 10 a.m. to 4:30 p.m. (EST) and Thursday, March 28, 2024, Dalton State College, Wright School of Business, 650 College Dr., Dalton, GA 30720, 10 a.m. to 4:30 p.m. (EST) and by remote means. Members of the public may attend in-person or watch the webcast of the events beginning at 1 p.m. each day on the Commission's website at www.sec.gov.

STATUS: This Sunshine Act notice is being issued because a majority of the Commission may attend the meeting.

MATTERS TO BE CONSIDERED: These public roundtables will be an opportunity for investors, regulators, and members of the investment community to share their experiences with SEC staff and discuss topics that are important to them, such as securities fraud and feedback on SEC rulemaking. These events are designed to listen to investors and better understand their needs in future policy and practice. Questions and feedback may be submitted in advance to InvestorEngagement@sec.gov.

CONTACT PERSON FOR MORE INFORMATION: For further information and to ascertain what, if any, matters have been added, deleted or postponed; please contact Vanessa A. Countryman from the Office of the Secretary at (202) 551-5400.

Authority: 5 U.S.C. 552b.

Dated: March 20, 2024.
Vanessa A. Countryman,
Secretary.

[FR Doc. 2024-06296 Filed 3-20-24; 4:15 pm]

BILLING CODE 8011-01-P